DEPARTMENT OF COMMERCE

International Trade Administration

[A-588-804]

Antifriction Bearings (Other Than Tapered Roller Bearings) and Parts Thereof from Japan: Amended Final Results of Antidumping Duty Administrative Review Pursuant to Final Court Decision

AGENCY: Import Administration, International Trade Administration, Department of Commerce.

SUMMARY: The United States Court of International Trade (CIT) sustained the remand determination of the Department of Commerce (the Department) in the administrative reviews of the antidumping duty orders on antifriction bearings (other than tapered roller bearings) and parts thereof from Japan covering the period May 1, 1999, through April 30, 2000, for ball bearings and the period May 1, 1999, through December 31, 1999, for cylindrical roller bearings and spherical plain bearings. Although certain aspects of the Department's final results were appealed to the United States Court of Appeals for the Federal Circuit (CAFC), the remand results were not among them. On October 29, 2007, the Supreme Court denied a petition for certiorari in this case. As there is now a final court decision in this case, we are amending the final results of the review in this matter. We will instruct U.S. Customs and Border Protection (CBP) to liquidate entries subject to these amended final results.

EFFECTIVE DATE: December 3, 2007.

FOR FURTHER INFORMATION CONTACT: Thomas Schauer or Richard Rimlinger, AD/CVD Operations, Office 5, Import Administration, U.S. Department of Commerce, 14th Street and Constitution Avenue, NW, Washington, DC 20230; telephone: (202) 482-0410 and (202) 482-4477, respectively.

SUPPLEMENTAL INFORMATION:

Background

On July 12, 2001, the Department published the final results of administrative reviews of the antidumping duty orders on antifriction bearings (other than tapered roller bearings) and parts thereof from Japan for the period of review from May 1, 1999, through April 30, 2000, for ball bearings and the period May 1, 1999, through December 31, 1999, for cylindrical roller bearings and spherical plain bearings. See Antifriction Bearings (Other Than Tapered Roller Bearings) and Parts Thereof From France, Germany, Italy, Japan, Sweden, and the United Kingdom; Final Results of Antidumping Duty Administrative Reviews and Revocation of Orders in Part, 66 FR 36551 (July 12, 2001) (AFBs 11). NTN Corporation, NTN-BCA Corporation, NTN Bower Corporation, NTN Driveshaft Inc., American NTN Bearing Manufacturing Corp., and NTN Bearing Corporation of America (hereafter “NTN”) filed a lawsuit challenging the final results.¹ On August 10, 2004, the CIT remanded AFBs 11 to the Department to explain why it did not exclude NTN's sales of CT scan bearings from its calculation of NTN's margin and assessment rate with respect to ball bearings and parts thereof from Japan. See SNR Roulements v. United States, 341 F. Supp. 2d 1334 (CIT 2004). In accordance with the CIT's remand order in SNR Roulements v. United States, 341 F. Supp. 2d 1334, the Department filed its remand results on October 29, 2004. In those remand results, the Department excluded NTN's sales of CT scan bearings from its calculation of NTN's margin and assessment rate with regard to ball bearings and parts thereof from Japan.

¹ SNR Roulements, INA-Schaeffler KG, INA USA Corporation, Koyo Seiko Co., Ltd. and Koyo Corporation of U.S.A. (collectively “Koyo”), NSK Corporation, NSK Bearings Europe, Ltd., and NSK Ltd. were also parties to the litigation but our margin calculations for these companies were not affected by the litigation. Therefore, there are no amended final results of reviews to publish.

On January 27, 2005, the CIT sustained the Department's final results of remand redetermination in their entirety. See SNR Roulements v. United States, Consol. Ct. No. 01-00686, Slip Op. 05-12 (CIT January 27, 2005). Subsequently, the CAFC affirmed all of the Department's determinations raised on appeal. See SNR Roulements v. United States, 05-1297, 05-1323, 2006 U.S. App. LEXIS 31200 (CAFC December 8, 2006). The CAFC also denied a petition for rehearing of this case. See SNR Roulements v. United States, 05-1297, 05-1323, 2007 U.S. App. LEXIS 4456 (CAFC February 6, 2007). On April 27, 2007, Koyo and NTN submitted an application to the Chief Justice of the United States Supreme Court for an extension of time to file a petition for a writ of certiorari. The Chief Justice granted the extension to file until June 6, 2007. NTN and Koyo filed their petition for a writ of certiorari on June 6, 2007. The Supreme Court denied the same on October 29, 2007. Therefore, there is now a final and conclusive court decision.

Amendment to Final Results

We are now amending the final results of this review of the antidumping duty order on ball bearings and parts thereof from Japan. The changes to our calculations with respect to NTN resulted in a change in the weighted-average margin for ball bearings from 9.16 percent to 8.98 percent for the period of review. There are no changes in the margins for cylindrical roller bearings and spherical plain bearings as a result of the litigation. The Department will instruct CBP to liquidate entries of the ball bearings, cylindrical roller bearings, and spherical plain bearings from Japan during the review period at the assessment rates the Department calculated for the final results of reviews as amended. We intend to issue the assessment instructions to CBP 15 days after the date of publication of these amended final results of review.

We are issuing and publishing these amended final results of review in accordance with sections 751(a)(1) and 777(i)(1) of the Tariff Act of 1930, as amended.

Dated: November 27, 2007.
David M. Spooner,
Assistant Secretary for Import Administration.

[FR Doc. E7-23402 Filed 11-30-07; 8:45 am]

BILLING CODE 3510-DS-S